ENVIRONMENTAL PROTECTION AGENCY

[FRL-10942-01-R6]

Underground Injection Control Program; Hazardous Waste Injection Restrictions; Petition for Exemption Reissuance—Class I Hazardous Waste Injection; Dow Beaumont Aniline Plant, Texas

AGENCY: Environmental Protection Agency (EPA).

ACTION: Notice of a final decision on a no migration petition reissuance.

SUMMARY: Notice is hereby given that a reissuance of an exemption to the land disposal restrictions, under the 1984 Hazardous and Solid Waste Amendments to the Resource Conservation and Recovery Act, is granted to Dow Beaumont Texas Operations for two Class I hazardous waste injection wells at the Dow Beaumont Aniline Plant located in Nederland, Texas.

DATES: This action was effective as of May 9, 2023.

ADDRESSES: Copies of the petition reissuance and pertinent information relating thereto are on file at the following location: Environmental Protection Agency (EPA), Region 6, Water Division, Safe Drinking Water Branch (6WD-D), 1201 Elm Street, Suite 500, Dallas, Texas 75270-2102.

FOR FURTHER INFORMATION CONTACT: Lauren Ray, Physical Scientist, Ground Water/UIC Section, EPA—Region 6, telephone (214) 665-2756.

SUPPLEMENTARY INFORMATION: As required by 40 CFR part 148, Dow adequately demonstrated to the EPA by the petition reissuance application and supporting documentation that, to a reasonable degree of certainty, there will be no migration of hazardous constituents from the injection zone for as long as the waste remains hazardous. This final decision allows the underground injection by the Dow Beaumont Aniline Plant, of the specific restricted hazardous wastes identified in this exemption reissuance, into Class I hazardous waste injection Wells WDW-188 and WDW-391 until December 31, 2040, unless EPA terminates this exemption under provisions of 40 CFR 148.24. Additional conditions included in this final decision may be reviewed by contacting the Region 6 Ground Water/UIC Section. As required by 40 CFR 148.22(b) and 124.10, a public notice comment period started on January 26, 2023, and closed on March 13, 2023. No comments were received. EPA made inconsequential edits to the fact sheet after the public comment period. This decision constitutes final Agency action, and there is no Administrative appeal.

Dated: May 25, 2023.
Charles W. Maguire,
Director, Water Division, Region 6.

[FR Doc. 2023-11587 Filed 5-31-23; 8:45 am]

BILLING CODE 6560-50-P